DEPARTMENT OF ENERGY

Federal Energy Regulatory Commission

[Project No. 14308-011]

Carbon Zero, LLC; North Bennington Hydroelectric LLC; Notice of Application for Transfer of License and Soliciting Comments, Motions To Intervene, and Protests

On August 31, 2020, Carbon Zero, LLC (transferor) and North Bennington Hydroelectric LLC (transferee) filed jointly an application for the transfer of license of the Vermont Tissue Mill Dam Hydroelectric Project No. 14308. The project is located on the Walloomsac River, Bennington County, Vermont.

The applicants seek Commission approval to transfer the license for the Vermont Tissue Mill Dam Hydroelectric Project from the transferor to the transferee.

Applicants Contact: For transferor: Maria Scully, Carbon Zero, LLC, P.O. Box 338, North Bennington, VT 05257, Phone: (802) 688-5175, Email: mscully@outlook.com.

For transferee: Arion Thiboumery, North Bennington Hydroelectric LLC, 4304 East Hill Rd., Plainfield, VT 05667, Phone: (415) 260-6890, Email: arion@ar-ion.net.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, please send a paper copy to: Secretary, Federal Energy Regulatory Commission, 888 First Street NE, Washington, DC 20426. Submissions sent via any other carrier must be addressed to Kimberly D. Bose, Secretary, Federal Energy Regulatory Commission, 12225 Wilkins Avenue, Rockville, Maryland 20852. The first page of any filing should include docket number P-14308-011. Comments emailed to Commission staff are not considered part of the Commission record.

Dated: September 16, 2020.
Nathaniel J. Davis, Sr.,
Deputy Secretary.

[FR Doc. 2020-20914 Filed 9-21-20; 8:45 am]

BILLING CODE 6717-01-P